DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the United States Department of Agriculture (USDA) Rural Development administers rural utilities programs through the Rural Utilities Service. The USDA Rural Development invites comments on the following information collections for which the Agency intends to request approval from the Office of Management and Budget (OMB).

DATES: Comments on this notice must be received by March 31, 2009.

FOR FURTHER INFORMATION CONTACT: Michele Brooks, Director, Program Development and Regulatory Analysis, USDA Rural Development, U.S. Department of Agriculture, 1400 Independence Ave., SW., STOP 1522, Room 5162, South Building, Washington, DC 20250-1522. Telephone: (202) 690-1078. Fax: (202) 720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension.

Comments are invited on: (a) Whether this collection of information is necessary for the proper performance of the functions of the agency, including whether the information will have practical utility; (b) the accuracy of the agency's estimate of the burden of the collection of information including the validity of the methodology and assumptions used; (c) ways to enhance the quality, utility, and clarity of the information to be collected; and (d) ways to minimize the burden of the collection of information on respondents, including through the use of appropriate automated, electronic, mechanical or other technological collection techniques or other forms of information technology. Comments may be sent to Michele Brooks, Director, Program Development and Regulatory Analysis, USDA Rural Development, U.S. Department of Agriculture, STOP 1522, 1400 Independence Ave., SW., Washington, DC 20250-1522. Fax: (202) 720-8435.

Title: Telecommunications Standards and Specifications, 7 CFR Part 1755.

OMB Control Number: 0572-0132.

Type of Request: Extension of a currently approved collection.

Abstract: To protect the security of loans it makes and to ensure that the telecommunications services provided to rural Americans are comparable to those offered in urban and suburban areas, USDA Rural Development establishes the minimum acceptable performance criteria for materials and equipment to be employed on telecommunications systems financed by USDA Rural Development. These specifications cover a variety of materials and equipment, ranging from multipair cables for direct burial to highly sophisticated computerized central office switches. Manufacturers, wishing to sell their products to USDA Rural Development borrowers, request RUS consideration for acceptance of their products and submit data demonstrating their products' compliance with USDA Rural Development specification.

Estimate of Burden: Public reporting burden for this collection of information is estimated to average 20 hours per response.

Respondents: Not-for-profit institutions.

Estimated Number of Respondents: 50.

Estimated Number of Responses per Respondent: 1.68.

Estimated Total Annual Burden on Respondents: 1400 hours.

Title: Telecommunications Field Trials.

OMB Control Number: 0572-0133.

Type of Request: Extension of a currently approved collection.

Abstract: To protect the equity of loans it makes, the USDA Rural Development Telecommunications Program establishes the minimum acceptable performance criteria for materials and equipment to be employed on telecommunication systems financed by USDA Rural Development. These specifications cover a variety of materials and equipment, ranging from multipair cables for direct burial in the earth, to highly sophisticated, computerized central office digital switches. Manufacturers wishing to sell their products to USDA Rural Development borrowers, request USDA Rural Development consideration for acceptance of their products and submit data demonstrating their products' compliance with USDA Rural Development specifications and that the products are otherwise acceptable for use on rural telecommunications systems. The review and determination of product acceptability is made to help assure that the products will perform properly and provide service lives that assure reliable revenue incomes and repayment of USDA Rural Development loans funds in a manner consistent with the terms and conditions of the USDA Rural Development loan. Unacceptable products may fail prematurely and interrupt service, require costly replacements, and reduce revenues. Without this collection, USDA Rural Development has no means of determining the acceptability of advanced technology in a manner that is timely enough for USDA Rural Development borrowers to take advantage of the improved benefits and promise that such products may provide for rural America.

Estimate of Burden: Public reporting burden for this collection of information is estimated to average 3 hours per response.

Respondents: Not-for-profit institutions.

Estimated Number of Respondents: 3.

Estimated Number of Responses per Respondent: 6.

Estimated Total Annual Burden on Respondents: 54 hours.

Title: Request for Approval to Sell Capital Assets.

OMB Control Number: 0572-0020.

Type of Request: Extension of a currently approved collection

Abstract: A borrower's assets provide the security for a government loan. The selling of assets reduces the security and increases the risk to the government. RUS Form 369 allows the borrower to seek agency permission to sell some of its assets. The form collects detailed information regarding the proposed sales of a portion of the borrower's systems. USDA Rural Development electric utility borrowers complete this form to request USDA Rural Development approval in order to sell capital assets when the fair market value exceeds 10 percent of the borrower's net utility plant.

Estimate of Burden: Public Reporting burden for this collection of information is estimated to average 3 hours per response.

Respondents: Not-for-profit institutions; Business or other for profit.

Estimated Number of Respondents: 5.

Estimated Number of Responses per Respondent: 1.

Estimated Total Annual Burden on Respondents: 15 hours.

Title: Mergers and Consolidations of Electric Borrowers, 7 CFR 1717, subpart D.

OMB Control Number: 0572-0114.

Type of Request: Extension of a currently approved collection.

Abstract: The RE Act of 1936, as amended (7 U.S.C. 901 et seq.), authorizes the Agency to make and guarantee loans for rural electrification. Due to deregulation and restructuring activities in the electric industry, USDA Rural Development borrowers find it advantageous to merge or consolidate to meet the challenges of industry change. This information collection addresses the requirements of USDA Rural Development policies and procedures for mergers and consolidations of electric program borrowers.

Estimate of Burden: Public reporting burden for this collection is estimated to average 1.32 hours per response.

Respondents: Not-for-profit institution; business or other for-profit.

Estimated Number of Respondents: 12.

Estimated Number of Responses per Respondent: 10.8.

Estimated Total Annual Burden on Respondents: 170 hours.

Dated: January 26, 2009.
James R. Newby,
Acting Administrator, Rural Utilities Service.

[FR Doc. E9-1957 Filed 1-29-09; 8:45 am]

BILLING CODE 3410-15-P